NUCLEAR REGULATORY COMMISSION

[NRC-2015-0227]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from September 1 to September 14, 2015. The last biweekly notice was published on September 15, 2015.

DATES: Comments must be filed by October 29, 2015. A request for a hearing must be filed by November 30, 2015.

ADDRESSES: You may submit comments by any of the following methods (unless this document describes a different method for submitting comments on a specific subject):

• Federal Rulemaking Web site: Go to http://www.regulations.gov and search for Docket ID NRC-2015-0227. Address questions about NRC dockets to Carol Gallagher; telephone: 301-415-3463; email: Carol.Gallagher@nrc.gov.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Shirley Rohrer, Office of Nuclear Reactor Regulation, U.S. Nuclear Regulatory Commission, Washington, DC 20555-0001; telephone: 301-415-5411, email: Shirley.Rohrer@nrc.gov.

SUPPLEMENTARY INFORMATION:

I. Obtaining Information and Submitting Comments

A. Obtaining Information

Please refer to Docket ID NRC-2015-0227 when contacting the NRC about the availability of information for this action. You may obtain publicly-available information related to this action by any of the following methods:

• Federal Rulemaking Web site: Go to http://www.regulations.gov and search for Docket ID NRC-2015-0227.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2015-0227, facility name, unit number(s), application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i) through (iii).

For further details with respect to these license amendment applications, see the application for amendment which is available for public inspection in ADAMS and at the NRC's PDR. For additional direction on accessing information related to this document, see the “Obtaining Information and Submitting Comments” section of this document.

Duke Energy Florida, Inc. (DEF), et al., Docket No. 50-302, Crystal River, Unit 3, Nuclear Generating Plant (CR-3), Citrus County, Florida

Date of amendment request: July 28, 2015. A publicly-available version is in ADAMS under Accession No. ML15216A123.

Description of amendment request: The amendment would reflect the transfer of ownership, held by Seminole Electric Cooperative, Inc., in CR-3 to DEF. The transfer of ownership will take place pursuant to the Settlement, Release and Acquisition Agreement, dated April 30, 2015, wherein DEF will purchase the 1.6994 percent ownership share in CR-3 held by Seminole Electric Cooperative, Inc., leaving DEF as the sole remaining licensee for CR-3.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes do not involve a significant increase in the probability of any accident previously evaluated because no accident initiators or assumptions are affected. The proposed license transfer is administrative in nature and has no direct effect on any plant system, plant personnel qualifications, or the operation and maintenance of CR-3.

2. Does the proposed change create the possibility of a new or different kind of accident from any accident previously evaluated?

Response: No.

The proposed changes do not create the possibility of a new or different kind of accident from any previously evaluated because no new accident initiators or assumptions are introduced by the proposed changes. The proposed license transfer is administrative in nature and has no direct effect on any plant system, plant personnel qualifications, or operation and maintenance of CR-3.

3. Does the proposed amendment involve a significant reduction in a margin of safety?

Response: No.

The proposed changes do not involve a significant reduction in a margin of safety because the proposed changes do not involve changes to the initial conditions contributing to accident severity or consequences, or reduce response or mitigation capabilities. The proposed license transfer is administrative in nature and has no direct effect on any plant system, plant personnel qualifications, or operation and maintenance of CR-3.

The NRC staff has reviewed the licensee's analysis and, based on this review, it appears that the three standards of 50.92(c) are satisfied. Therefore, the NRC staff proposes to determine that the amendment request involves no significant hazards consideration.

Attorney for licensee: Lara S. Nichols, 550 South Tryon Street, Charlotte, NC 28202.

NRC Branch Chief: Bruce A. Watson.

Entergy Operations, Inc.; System Energy Resources, Inc.; South Mississippi Electric Power Association; and Entergy Mississippi, Inc.; Docket No. 50-416, Grand Gulf Nuclear Station, Unit 1, Claiborne County, Mississippi.

Date of amendment request: May 27, 2015. A publicly-available version is in ADAMS under Accession No. ML15147A599.

Description of amendment request: The amendment would allow the extension of the containment isolation valve leakage test (Type C within appendix J to 10 CFR part 50, “Primary Reactor Containment Leakage Testing for Water-Cooled Power Reactors”). The proposed change would also adopt a more conservative grace interval for Type B and Type C tests. This amendment request also proposes an administrative change by deleting the information regarding the performance of the next Type A test no later than November 23, 2008, as this has already occurred.

Basis for proposed no significant hazards consideration determination: As required by 10 CFR 50.91(a), the licensee has provided its analysis of the issue of no significant hazards consideration. The NRC staff has reviewed the licensee's analysis against the standards of 10 FR 50.92(c). The NRC staff's review is presented below:

1. Does the proposed amendment involve a significant increase in the probability or consequences of an accident previously evaluated?

Response: No.

The proposed extension does not involve either a physical change to the plant or a change in the manner in which the plant is operated or controlled. As such, the containment will continue to perform its design function as a barrier to fission product releases. In addition, the containment and the testing requirements invoked to periodically demonstrate the integrity of the containment exist to ensure the plant's ability to mitigate the consequences of an accident, and do not involve the prevention or identification of any precursors of an accident.

Therefore, this proposed extension does not involve a significant increase in the probability of an accident previously evaluated.

With respect to the increase in the time interval, consistent with the Nuclear Energy Institute (NEI) implementing guidance, there is an added requirement that a licensee's post-outage report include the margin between the Type B and Type C leakage rate summation and its regulatory limit. This provides an additional leading indicator to allow for an increase to the surveillance interval. Further, at no time shall an extension be allowed for Type C valves that are restricted categorically (e.g., boiling-water reactor (BWR) main steam isolation valves (MSIVs)) and those valves with a history of leakage, or any valves held to either a less than maximum interval or to the base refueling cycle interval. Therefore, this proposed extension does not involve a significant increase in the consequences of an accident previously evaluated.

The proposed deletion of Type A test exceptions is for activities that have already taken place, so this deletion is solely an administrative action that has no effect on any component and no impact on how the unit is operated.

Therefore, the proposed amendment does not involve a significant increase in the probability or consequences of an accident previously evaluated.

2. Does the proposed change create the possibility of a new or different kind of accident from any accident previously evaluated?

Response: No.

The proposed change does not involve a physical change to the plant or a change to the manner in which the plant is operated or controlled. The proposed deletion of Type A test exceptions is for activities that have already taken place, so this deletion is solely an administrative action that has no effect on any component and no impact on how the unit is operated.

Therefore, the change does not create the possibility of a new or different kind of accident from any accident previously evaluated.

3. Does the proposed change involve a significant reduction in a margin of safety?

Response: No.

The proposed extension does not involve either a physical change to the plant or a change in the manner in which the plant is operated or controlled. As such, the containment will continue to perform its design function as a barrier to fission product releases. In addition, the containment and the testing requirements invoked to periodically demonstrate the integrity of the containment exist to ensure the plant's ability to mitigate the consequences of an accident, and do not involve the prevention or identification of any precursors of an accident. Consistent with the NEI implementing guidance, there is an added requirement that a licensee's post-outage report include the margin between the Type B and Type C leakage rate summation and its regulatory limit. This provides additional leading indicator to allow for an increase to the surveillance interval. Further, at no time shall an extension be allowed for Type C valves that are restricted categorically (e.g., BWR MSIVs) and those valves with a history of leakage, or any valves held to either a less than maximum interval or to the base refueling cycle interval.

The proposed deletion of Type A test exceptions is for activities that have already taken place, so this deletion is solely an administrative action that has no effect on any component and no impact on how the unit is operated.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Joseph A. Aluise, Assistant General Counsel—Nuclear, Entergy Services, Inc., 639 Loyola Avenue, New Orleans, LA 70113.

NRC Branch Chief: Meena K. Khanna.

Exelon Generation Company, LLC, Docket No. 50-410, Nine Mile Point Nuclear Station (NMP2), Unit 2, Oswego County, New York

Date of amendment request: March 23, 2015. A publicly-available version is in ADAMS under Accession No. ML15082A368.

Description of amendment request: The amendment would revise NMP2, Technical Specifications (TSs) to remove TS Table 3.6.1.3-1, “Secondary Containment Bypass Leakage Paths Leakage Rate Limits,” and references to the table and relocate the information to the Technical Requirements Manual (TRM).

Basis for proposed no significant hazards consideration determination: As required by 10 CFR 50.91(a), the licensee has provided its analysis of the issue of no significant hazards consideration, which is presented below:

1. Does the proposed amendment involve a significant increase in the probability or consequences of an accident previously evaluated?

Response: No.

Using the guidance in GL 91-08, the NMP2 proposed change would remove Table 3.6.1.3-1 and references to the table from the TS and relocates the information from the table to the TRM, which is a licensee controlled document. This change is consistent with Revision 4 of NUREG-1433, “General Electric BWR/4 Improved Standard Technical Specifications” and Revision 4 of NUREG-1434, “General Electric BWR/6 Improved Standard Technical Specifications.” This change is an administrative change that will not alter the manner in which the valves will be operated. Since the proposed change does not alter the manner in which the valves are operated, there is no significant impact on reactor operation.

Being an administrative change, the proposed change does not involve a physical change to the valves, nor does it change the safety function of the valves. The proposed TS revision involves no significant changes to the operation of any systems or components in normal or accident operating conditions and no changes to existing structures, systems, or components.

Therefore, the proposed amendment does not involve a significant increase in the probability or consequences of an accident previously evaluated.

2. Does the proposed amendment create the possibility of a new or different kind of accident from any accident previously evaluated?

Response: No.

The relocation of the table for the secondary containment isolation valves is an administrative change that will not impact the safety function of the secondary containment isolation valves. The proposed change does not affect the manner in which the valves will be operated; therefore, there are no new failure mechanisms created. The proposed change does not involve physical changes to the valves, nor does it change the safety function of the valves. The proposed change does not physically alter secondary containment isolation capability. The secondary containment bypass leakage paths leakage rate limits will not be changed by the proposed amendment.

Therefore, the proposed amendment does not create the possibility of a new or different kind of accident from any accident previously evaluated.

3. Does the proposed amendment involve a significant reduction in a margin of safety?

Response: No.

There is no adverse impact on the existing equipment capability as well as associated structures as a result of this administrative change. The proposed changes continue to provide the same limitations for secondary containment bypass leakage paths leakage rate limits as the existing leakage rate limits.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: J. Bradley Fewell, Senior Vice President, Regulatory Affairs, Nuclear, and General Counsel, Exelon Generation Company, LLC, 4300 Winfield Road, Warrenville, IL 60555

NRC Branch Chief: Benjamin G. Beasley.

Exelon Generation Company, LLC, Docket No. 50-220, Nine Mile Point Nuclear Station, Unit 1, Oswego County, New York

Date of amendment request: March 26, 2015. A publicly-available version is in ADAMS under Accession No. ML15089A231.

Description of amendment request: This amendment request involves the adoption of approved changes to NUREG-1433, “Standard Technical Specifications [STS] General Electric BWR/4 Plants,” Revision 4.0, to allow relocation of specific TS surveillance frequencies to a licensee-controlled program. The proposed changes are described in Technical Specification Task Force (TSTF) Traveler 425 “Relocate Surveillance Frequencies to Licensee Control—RITSTF [Risk Informed TSTF] Initiative 5b,” Revision 3 (TSTF-425) ADAMS Accession No. ML090850642, and are described in the Notice of Availability published in the Federal Register on July 6, 2009 (74 FR 31996). The proposed changes are consistent with NRC-approved TSTF-425. The proposed changes relocate surveillance frequencies to a licensee-controlled program, the Surveillance Frequency Control Program (SFCP). The changes are applicable to licensees using probabilistic risk guidelines contained in NRC-approved NEI (Nuclear Energy Institute) 04-10, “Risk-Informed Technical Specifications Initiative 5b, Risk-Informed Method for Control of Surveillance Frequencies” (ADAMS Accession No. ML071360456).

Basis for proposed no significant hazards consideration determination: As required by 10 CFR 50.91(a), the licensee has provided its analysis of the issue of no significant hazards consideration, which is presented below:

1. Do the proposed changes involve a significant increase in the probability or consequences of any accident previously evaluated?

Response: No.

The proposed changes relocate the specified frequencies for periodic surveillance requirements to licensee control under a new Surveillance Frequency Control Program. Surveillance frequencies are not an initiator to any accident previously evaluated. As a result, the probability of any accident previously evaluated is not significantly increased. The systems and components required by the technical specifications for which the surveillance frequencies are relocated are still required to be operable, meet the acceptance criteria for the surveillance requirements, and be capable of performing any mitigation function assumed in the accident analysis. As a result, the consequences of any accident previously evaluated are not significantly increased.

Therefore, the proposed changes do not involve a significant increase in the probability or consequences of an accident previously evaluated.

2. Do the proposed changes create the possibility of a new or different kind of accident from any previously evaluated?

Response: No.

No new or different accidents result from utilizing the proposed changes. The changes do not involve a physical alteration of the plant (i.e., no new or different type of equipment will be installed) or a change in the methods governing normal plant operation. In addition, the LAR changes do not impose any new or different requirements. The changes do not alter assumptions made in the safety analysis. The proposed changes are consistent with the safety analysis assumptions and current plant operating practice.

Therefore, the proposed changes do not create the possibility of a new or different kind of accident from any accident previously evaluated.

3. Do the proposed changes involve a significant reduction in the margin of safety?

Response: No.

The design, operation, testing methods, and acceptance criteria for systems, structures, and components (SSCs), specified in applicable codes and standards (or alternatives approved for use by the NRC) will continue to be met as described in the plant licensing basis (including the final safety analysis report and bases to TS), since these are not affected by changes to the surveillance frequencies. Similarly, there is no impact to safety analysis acceptance criteria as described in the plant licensing basis. To evaluate a change in the relocated surveillance frequency, Exelon will perform a probabilistic risk evaluation using the guidance contained in NRC approved NEI 04-10, Rev. 1, in accordance with the TS SFCP. NEI 04-10, Rev. 1, methodology provides reasonable acceptance guidelines and methods for evaluating the risk increase of proposed changes to surveillance frequencies consistent with Regulatory Guide 1.177.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: J. Bradley Fewell, Senior Vice President, Regulatory Affairs, Nuclear, and General Counsel, Exelon Generation Company, LLC, 4300 Winfield Road, Warrenville, IL 60555.

NRC Branch Chief: Benjamin G. Beasley.

Florida Power & Light Company, et al., Docket Nos. 50-335 and 50-389, St. Lucie Plant, Unit Nos. 1 and 2 (SL-1 and 2), St. Lucie County, Florida

Date of amendment request: July 14, 2015. A publicly-available version is in ADAMS under Accession No. ML15198A032.

Description of amendment request: The amendments would remove Technical Specification (TS) Surveillance Requirement (SR) 4.8.1.1.2.g and relocate the requirements to the Updated Final Safety Analysis Report (UFSAR) for SL-1 and the UFSAR for SL-2. SL TS SR 4.8.1.1.2.g requires a 10-year sediment cleaning of the fuel oil storage tank.

Basis for proposed no significant hazards consideration determination: As required by 10 CFR 50.91(a), the licensee has provided its analysis of the issue of no significant hazards consideration, which is presented below:

1. Does the proposed change involve a significant increase in the probability or consequences of an accident previously evaluated?

Response: No.

The proposed change acts to remove TS SR 4.8.1.1.2.g requirements from the TS and relocate the requirements to the UFSAR. The fuel storage tanks provide an adequate volume of diesel generator fuel oil for diesel generators to operate in the event of a loss of coolant accident and concurrent loss of offsite power. Relocating TS SR 4.8.1.1.2.g requirements from the TS to the UFSAR will not present an adverse impact to the fuel storage tanks and subsequently, will not impact the probability or consequences of an accident previously evaluated.

Furthermore, once relocated to the UFSAR, changes to fuel storage tank sediment cleaning requirements will be controlled in accordance with 10 CFR 50.59. Diesel generator fuel oil quantity and quality are assured by other TS SRs that remain unchanged.

The proposed change does not adversely affect accident initiators or precursors nor alter the design assumptions, conditions, and configuration or the manner in which the plant is operated and maintained. The proposed change does not adversely affect the ability of any structure, system, or component (SSC) to perform its intended safety function to mitigate the consequences of an initiating event within the assumed acceptance limits.

The proposed change does not affect the source term, containment isolation, or radiological release assumptions used in evaluating the radiological consequences of any accident previously evaluated. Further, the proposed change does not increase the types and amounts of radioactive effluent that may be released offsite, nor significantly increase individual or cumulative occupational/public radiation exposures.

Therefore, the proposed change does not involve a significant increase in the probability or consequences of an accident previously evaluated.

2. Does the proposed change create the possibility of a new or different kind of accident from any accident previously evaluated?

Response: No.

The proposed change acts to remove TS SR 4.8.1.1.2.g requirements from the TS and relocate the requirements to the UFSAR. The proposed change does not introduce new modes of plant operation and it does not involve physical modifications to the plant (no new or different type of equipment will be installed). There are no changes in the method by which any safety related plant SSC performs its specified safety function. As such, the plant conditions for which the design basis accident analyses were performed remain valid.

No new accident scenarios, transient precursors, failure mechanisms, or limiting single failures will be introduced as a result of the proposed change. There will be no adverse effect or challenges imposed on any SSC as a result of the proposed change.

Therefore, the proposed change does not create the possibility of a new or different kind of accident from any previously evaluated.

3. Does the proposed change involve a significant reduction in a margin of safety?

Response: No.

Margin of safety is related to confidence in the ability of the fission product barriers to perform their accident mitigation functions. The proposed change acts to remove TS SR 4.8.1.1.2.g requirements from the TS and relocate the requirements to the UFSAR. The TS SRs retained in TS will continue to ensure the proper functioning of diesel generators. The proposed change does not physically alter any SSC. There will be no effect on those SSCs necessary to assure the accomplishment of protection functions. There will be no impact on the overpower limit, departure from nucleate boiling ratio (DNBR) limits, loss of cooling accident peak cladding temperature (LOCA PCT), or any other margin of safety. The applicable radiological dose consequence acceptance criteria will continue to be met.

Therefore, the proposed change does not involve a significant reduction in a margin of safety.

The NRC staff has reviewed the licensee's analysis and, based on this review, it appears that the three standards of 50.92(c) are satisfied. Therefore, the NRC staff proposes to determine that the amendment request involves no significant hazards consideration.

Attorney for licensee: William S. Blair, Managing Attorney—Nuclear, Florida Power & Light Company, 700 Universe Boulevard, MS LAW/JB, Juno Beach, FL 33408-0420.

NRC Branch Chief: Shana R. Helton.

South Carolina Electric and Gas Company, Docket Nos.: 52-027 and 52-028, Virgil C. Summer Nuclear Station (VSNS), Units 2 and 3, Fairfield County, South Carolina

Date of amendment request: May 6, 2015. A publicly-available version is in ADAMS under Accession No. ML15127A177.

Description of amendment request: The amendment request proposes changes to the VSNS, Units 2 and 3, Updated Final Safety Analysis Report (UFSAR) in the form of departures from the incorporated plant-specific Design Control Document Tier 2 information, including the Technical Requirements Manual, and involves related changes to Combined License (COL) Appendix C information, with corresponding changes to the associated plant-specific Tier 1 information. The proposed departures consist of changes to plant-specific Tier 1 (and COL, Appendix C) tables and UFSAR tables, text, and figures related to the addition of two hydrogen igniters above the In-Containment Refueling Water Storage Tank roof vents to improve hydrogen burn capabilities, incorporating consistency changes to a plant-specific Tier 1 table to clarify the minimum surface temperature of the hydrogen igniters and igniter location, removal of hydrogen igniters from the Protection and Safety Monitoring System from a plant-specific Tier 1 table, and clarification of hydrogen igniter controls in a Tier 1 table.

Basis for proposed no significant hazards consideration determination: As required by 10 CFR 50.91(a), the licensee has provided its analysis of the issue of no significant hazards consideration, which is presented below:

1. Does the proposed amendment involve a significant increase in the probability or consequences of an accident previously evaluated?

Response: No.

The proposed addition of hydrogen igniters and clarifying changes to the hydrogen ignition subsystem does not affect any safety-related equipment or function. The hydrogen ignition subsystem is designed to mitigate beyond design basis hydrogen generation in the containment. The hydrogen ignition subsystem changes do not involve any accident, initiating event or component failure; thus, the probabilities of the accidents previously evaluated are not affected. The modified system will maintain its designed and analyzed beyond design basis function to maintain containment integrity. The maximum allowable leakage rate specified in the Technical Specifications is unchanged, and radiological material release source terms are not affected; thus, the radiological releases in the accident analyses are not affected.

Therefore, the proposed amendment does not involve a significant increase in the probability or consequences of an accident previously evaluated.

2. Does the proposed amendment create the possibility of a new or different kind of accident from any accident previously evaluated?

Response: No.

The proposed addition of hydrogen igniters and clarifying changes to the hydrogen ignition subsystem will maintain the beyond design basis function of the hydrogen ignition subsystem. The hydrogen igniter subsystem changes do not impact its function to maintain containment integrity during beyond design basis accident conditions, and, thus does not introduce any new failure mode. The proposed changes do not create a new fault or sequence of events that could result in a radioactive release. The proposed changes would not affect any safety-related accident mitigating function.

Therefore, the proposed amendment does not create the possibility of a new or different kind of accident.

3. Does the proposed amendment involve a significant reduction in a margin of safety?

Response: No.

The proposed addition of hydrogen igniters and clarifying changes to the hydrogen ignition subsystem will maintain the beyond design basis function of the hydrogen ignition subsystem. The proposed changes do not have any effect on the ability of safety-related structures, systems, or components to perform their design basis functions. The proposed changes do not affect the ability of the hydrogen igniter subsystem to maintain containment integrity following a beyond design basis accident. The hydrogen igniter subsystem continues to meets the requirements for which it was designed, and continues to meet the regulations.

No safety analysis or design basis acceptance limit/criterion is challenged or exceeded by the proposed changes, thus no margin of safety is reduced.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Kathryn M. Sutton, Morgan, Lewis & Bockius LLC, 1111 Pennsylvania Avenue NW., Washington, DC 20004-2514.

NRC Branch Chief: Lawrence J. Burkhart.

South Carolina Electric and Gas Company, Docket Nos.: 52-027 and 52-028, Virgil C. Summer Nuclear Station (VSNS), Units 2 and 3, Fairfield County, South Carolina

Date of amendment request: May 18, 2015. A publicly-available version is in ADAMS under Accession No. ML15138A458.

Description of amendment request: The amendment request proposes a change to the VSNS, Units 2 and 3, Radiation Emergency Plan (Plan). Changes include expansion of the Emergency Planning Zone (EPZ) boundary, and revisions to the Evacuation Time Estimates (ETE) analysis and the Alert and Notification System (ANS) design reports to encompass the expanded EPZ boundary.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes, which include expansion of the EPZ boundary and revision of the ETE analysis and ANS design reports to encompass the expanded EPZ boundary, do not impact the physical function of plant structures, systems, or components (SSC) or the manner in which SSCs perform their design function. The proposed changes neither adversely affect accident initiators or precursors, nor alter design assumptions. The proposed changes do not alter or prevent the ability of SSCs to perform their intended function to mitigate the consequences of an initiating event within assumed acceptance limits. No operating procedures or administrative controls that function to prevent or mitigate accidents are affected by the proposed changes.

Therefore, the proposed changes do not involve a significant increase in the probability or consequences of an accident previously evaluated.

2. Does the proposed amendment create the possibility of a new or different kind of accident from any accident previously evaluated?

Response: No.

The proposed changes do not involve a physical alteration of the plant (i.e., no new or different type of equipment will be installed or removed) or a change in the method of plant operation. The proposed changes will not introduce failure modes that could result in a new accident, and the change does not alter assumptions made in the safety analysis. The proposed changes, which include expansion of the EPZ boundary and revision of the ETE analysis and ANS design reports to encompass the expanded EPZ boundary, are not initiators of any accidents. Therefore, the proposed changes do not create the possibility of a new or different kind of accident from any accident previously evaluated.

3. Does the proposed amendment involve a significant reduction in a margin of safety?

Response: No.

Margin of safety is associated with the ability of the fission product barriers (i.e., fuel cladding, reactor coolant system pressure boundary, and containment structure) to limit the level of radiation dose to the public. The proposed changes, which include expansion of the EPZ boundary and revision of the ETE analysis and ANS design reports to encompass the expanded EPZ boundary, do not impact operation of the plant or its response to transients or accidents. The proposed changes do not alter requirements of the Technical Specifications or the Combined Licenses. The proposed changes do not involve a change in the method of plant operation and no accident analyses will be affected by the proposed changes.

Additionally, the proposed changes will not relax any criteria used to establish safety limits and will not relax any safety system settings. The safety analysis acceptance criteria are not affected by these proposed changes. The proposed changes will not result in plant operation in a configuration outside the design basis. The proposed changes do not adversely affect systems that respond to safely shut down the plant and to maintain the plant in a safe shutdown condition.

The NRC staff has reviewed the licensee's analysis and, based on this review, it appears that the three standards of 10 CFR 50.92(c) are satisfied. Therefore, the NRC staff proposes to determine that the amendment request involves no significant hazards consideration.

Attorney for licensee: Kathryn M. Sutton, Morgan, Lewis & Bockius LLC, 1111 Pennsylvania Avenue NW., Washington, DC 20004-2514.

NRC Branch Chief: Lawrence J. Burkhart.

III. Previously Published Notices of Consideration of Issuance of Amendments to Facility Operating Licenses and Combined Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Entergy Operations, Inc., Docket Nos. 50-382, Waterford Steam Electric Station, Unit 3, St. Charles Parish, Louisiana

Date of amendment request: July 2, 2015, as supplemented by letter dated August 14, 2015. Publicly-available versions are in ADAMS under Accession Nos. ML15197A106 and ML15226A346.

Brief Description of amendment: The proposed amendment will modify the Technical Specification (TS) 3.1.3.4, “Control Element Assembly Drop Time” [CEA] and Final Safety Analysis Report, Chapter 15, “Accident Analyses.” The proposed amendment would change TS 3.1.3.4 to revise the arithmetic average of all CEA drop times to be less than or equal to 3.5 seconds.

Date of publication of individual notice in the Federal Register: September 8, 2015 (80 FR 53892).

Expiration date of individual notice: October 8, 2015 (public comments); and November 9, 2015 (hearing requests).

Amendment No: 205. A publicly-available version is in ADAMS under Accession No. ML15229A219; documents related to this amendment are listed in the Safety Evaluation enclosed with the amendment.

Facility Operating License No. NPF-29: The amendment revised the Facility Operating License and Technical Specifications.

Date of initial notice in Federal Register: December 2, 2014 (79 FR 71453). The original Notice considered the September 25, 2013, application and supplemental by letters dated December 30, 2013, March 10, April 11, 2014. The supplemental letters dated July 31, August 14, August 26, September 4, September 10, October 2, November 20, November 21 (two letters), and December 15, 2014; and January 6, January 20, February 9, February 18, February 19, March 3, and August 13, 2015, provided additional information that clarified the application, did not expand the scope of the application as originally noticed, and did not change the staff's original proposed no significant hazards consideration determination as published in the Federal Register.

The Commission's related evaluation of the amendment is contained in a Safety Evaluation dated August 31, 2015.

No significant hazards consideration comments received: Yes. The comments received on Amendment No. 205 are addressed in the Safety Evaluation dated August 31, 2015.

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission related letter, Safety Evaluation and/or Environmental Assessment as indicated. All of these items can be accessed as described in the “Obtaining Information and Submitting Comments” section of this document.

Duke Energy Florida, Inc., et al., Docket No. 50-302, Crystal River, Unit 3, Nuclear Generating Plant (CR-3), Citrus County, Florida

Date of application for amendment: October 29, 2013, as supplemented by letters dated May 7, 2014; June 17, 2014; and March 6, 2015.

Brief description of amendment: The amendment revised the CR-3 Facility Operating License to remove and revise certain License Conditions. The amendment also extensively revised the CR-3 Improved Technical Specifications (TSs) to create the CR-3 Permanently Defueled TSs.

Date of issuance: September 4, 2015.

Effective date: As of the date of its issuance, to be implemented within 30 days from the date of issuance.

Amendment No.: 247. A publicly-available version is in ADAMS under Accession No. ML15224B286; documents related to this amendment are listed in the Safety Evaluation enclosed with the amendment.

Facility Operating License No. DPR-72: Amendment revised the Facility Operating License and TSs.

Date of initial notice in Federal Register: October 28, 2014 (79 FR 64222). The supplement dated March 6, 2015, provided additional information that clarified the application, did not expand the scope of the application as originally noticed, and did not change the staff's original proposed no significant hazards consideration determination as published in the Federal Register.

The Commission's related evaluation of the amendment is contained in a Safety Evaluation dated September 4, 2015.

No significant hazards consideration comments received: No.

Duke Energy Progress, Inc., Docket No. 50-261, H. B. Robinson Steam Electric Plant, Unit No. 2, Hartsville, South Carolina

Date of amendment request: September 10, 2013, as supplemented by letters dated January 30, June 1, and December 16, 2014.

Brief description of amendment: The amendment revised Technical Specification (TS) 3.8.1 Required Action (RA) B.3.2.2, “One DG [Diesel Generator] Inoperable—Perform SR [Surveillance Requirement] 3.8.1.2 for OPERABLE DG within 96 hours,” by a NOTE clarifying RA B.3.2.2 that states, “Not required to be performed when the cause of the inoperable DG is pre-planned maintenance and testing.”

Date of issuance: September 8, 2015.

Effective date: As of the date of issuance and shall be implemented within 120 days of issuance.

Amendment No.: 242. A publicly-available version is in ADAMS under Accession No. ML15222B175; documents related to this amendment are listed in the Safety Evaluation (SE) enclosed with the amendment.

Renewed Facility Operating License No. DPR-23: Amendment revised the Facility Operating License and TSs.

Date of initial notice in Federal Register: December 10, 2013 (78 FR 74179). The supplemental letter(s) dated January 30, June 1, and December 16, 2014, provided additional information that clarified the application, did not expand the scope of the application as originally noticed, and did not change the staff's original proposed no significant hazards consideration determination as published in the Federal Register.

The Commission's related evaluation of the amendment is contained in an SE dated September 8, 2015.

No significant hazards consideration comments received: No.

Entergy Operations, Inc., System Energy Resources, Inc., South Mississippi Electric Power Association, and Entergy Mississippi, Inc., Docket No. 50-416, Grand Gulf Nuclear Station, Unit 1 (GGNS), Claiborne County, Mississippi

Date of application for amendment: September 25, 2013, as supplemented by letters dated December 30, 2013, March 10, April 11, July 31, August 14, August 26, September 4, September 10, October 2, November 20, November 21 (two letters), and December 15, 2014; and January 6, January 20, February 9, February 18, February 19, March 3, and August 13, 2015.

Brief description of amendment: The amendment modified the GGNS Technical Specifications to allow plant operation from the currently licensed Maximum Extended Load Line Limit Analysis (MELLLA) domain to plant operation in the expanded MELLLA Plus domain under the previously approved extended power uprate conditions of 4408 megawatts thermal rated core thermal power.

Date of issuance: August 31, 2015.

Effective date: As of the date of issuance and shall be implemented within 180 days of issuance.

Amendment No: 205. A publicly-available version is in ADAMS under Accession No. ML15229A219; documents related to this amendment are listed in the Safety Evaluation enclosed with the amendment.

Facility Operating License No. NPF-29: The amendment revised the Facility Operating License and Technical Specifications.

Date of initial notice in Federal Register: December 2, 2014 (79 FR 71453). The original Notice considered the September 25, 2013, application and supplemental by letters dated December 30, 2013, March 10, April 11, 2014. The supplemental letters dated July 31, August 14, August 26, September 4, September 10, October 2, November 20, November 21 (two letters), and December 15, 2014; and January 6, January 20, February 9, February 18, February 19, March 3, and August 13, 2015, provided additional information that clarified the application, did not expand the scope of the application as originally noticed, and did not change the staff's original proposed no significant hazards consideration determination as published in the Federal Register.

The Commission's related evaluation of the amendment is contained in a Safety Evaluation dated August 31, 2015.

No significant hazards consideration comments received: Yes. The comments received on Amendment No. 205 are addressed in the Safety Evaluation dated August 31, 2015.

Entergy Operations, Inc., System Energy Resources, Inc., South Mississippi Electric Power Association, and Entergy Mississippi, Inc., Docket No. 50-416, Grand Gulf Nuclear Station, Unit 1 (GGNS), Claiborne County, Mississippi

Date of application for amendment: August 1, 2014, as supplemented by letters dated March 3, and June 30, 2015.

Brief description of amendment: The amendment revised the following five non-conservative Technical Specification Allowable Values (AVs) in the GGNS Technical Specifications (TSs):

• Automatic Depressurization System Initiation Timer (TS Table 3.3.5.1-1)

• System A and B Containment Spray Timers (TS Table 3.3.6.3-1)

• Division 1 and 2 Degraded 4.16 kiloVolt (KV) Bus Voltage (TS Table 3.3.8.1-1)

• Division 3 Degraded 4.16 KV Bus Voltage (TS Table 3.3.8.1-1)

• Division 3 Degraded 4.16 KV Bus Voltage Time Delay-LOCA (loss of coolant accident) (TS Table 3.3.8.1-1)

Date of issuance: August 31, 2015.

Effective date: As of the date of issuance and shall be implemented within 90 days of issuance.

Amendment No: 207. A publicly-available version is in ADAMS under Accession No. ML15195A355; documents related to this amendment are listed in the Safety Evaluation enclosed with the amendment.

Facility Operating License No. NPF-29: The amendment revised the Updated Final Safety Analysis Report.

Date of initial notice in Federal Register: November 25, 2014 (79 FR 70214). The supplemental letters dated March 3, and June 30, 2015, provided additional information that clarified the application, did not expand the scope of the application as originally noticed, and did not change the staff's original proposed no significant hazards consideration determination as published in the Federal Register.

The Commission's related evaluation of the amendment is contained in a Safety Evaluation dated August 31, 2015.

No significant hazards consideration comments received: No.

Entergy Operations, Inc., System Energy Resources, Inc., South Mississippi Electric Power Association, and Entergy Mississippi, Inc., Docket No. 50-416, Grand Gulf Nuclear Station, Unit 1, (GGNS) Claiborne County, Mississippi

Date of application for amendment: January 6, 2015, as supplemented by letter dated March 27, 2015.

Brief description of amendment: The amendment modified the GGNS Technical Specification 5.6.5.b, “Core Operating Limits Report (COLR),” by adding the reference NEDC-33075P-A, Revision 8, “GE [General Electric] Hitachi Boiling Water Reactor Detect and Suppress Solution—Confirmation Density” as Reference 27. The amendment was submitted in support of the NRC's approval of the Maximum Extended Load Line Limit Analysis Plus amendment.

Date of issuance: August 31, 2015.

Effective date: As of the date of issuance and shall be implemented within 180 days of issuance.

Amendment No: 206. A publicly-available version is in ADAMS under Accession No. ML15180A170; documents related to this amendment are listed in the Safety Evaluation enclosed with the amendment.

Facility Operating License No. NPF-29: The amendment revised the Facility Operating License and Technical Specifications.

Date of initial notice in Federal Register: April 28, 2015 (80 FR 23604).

The Commission's related evaluation of the amendment is contained in a Safety Evaluation dated August 31, 2015.

No significant hazards consideration comments received: No.

Entergy Nuclear Operations, Inc., Docket No. 50-286, Indian Point Nuclear Generating, Unit No. 3, Westchester County, New York

Date of amendment request: February 12, 2015, as supplemented by letter dated August 11, 2015.

Brief description of amendment: The amendment revises Technical Specifications 3.4.3, “RCS [reactor coolant system] Pressure and Temperature (P/T) Limits,” and 3.4.12, “Low Temperature Overpressure Protection (LTOP),” to include new RCS P/T limit curves for heatup, cooldown, and pressure test operations and LTOP system setpoints. The proposed P/T limit curves and LTOP system setpoints will be valid for 37 effective full power years of facility operation, which is the accumulated burnup estimated to occur in December 2023 during the period of extended plant operation.

Date of issuance: September 3, 2015.

Effective date: As of the date of issuance, and shall be implemented within 30 days.

Amendment No.: 258. A publicly-available version is in ADAMS under Accession No. ML15226A159; documents related to this amendment are listed in the Safety Evaluation enclosed with the amendment.

Facility Operating License No. DPR-64: The amendment revised the Facility Operating License and the Technical Specifications.

Date of initial notice in Federal Register: June 9, 2015 (80 FR 32619). The supplemental letter provided additional information that clarified the application, did not expand the scope of the application as originally noticed, and did not change the NRC staff's original proposed no significant hazards consideration determination as published in the Federal Register.

The Commission's related evaluation of the amendment is contained in a Safety Evaluation dated September 3, 2015.

No significant hazards consideration comments received: No.

Entergy Operations, Inc., Docket No. 50-382, Waterford Steam Electric Station, Unit 3, St. Charles Parish, Louisiana

Date of amendment request: November 11, 2013, as supplemented by letters dated October 23, 2014, January 13, 2015, January 21, 2015, April 1, 2015, and May 27, 2015.

Brief description of amendment: The amendment changed the Waterford Steam Electric Station, Unit 3, Updated Final Safety Analysis Report (UFSAR). This change clarified, in the UFSAR, how the pressurizer heaters function is met for natural circulation at the onset of a loss-of-offsite power concurrent with the specific single point vulnerability.

Date of issuance: August 31, 2015.

Effective date: As of the date of issuance and shall be implemented 90 days from the date of issuance.

Amendment No.: 245. A publicly-available version is in ADAMS under Accession No. ML15139A483; documents related to this amendment are listed in the Safety Evaluation enclosed with the amendment.

Facility Operating License No. NPF-38: The amendment revised the UFSAR.

Date of initial notice in Federal Register: August 5, 2014 (79 FR 45474). The supplements dated October 23, 2014, January 13, 2015, January 21, 2015, April 1, 2015, and May 27, 2015, provided additional information that clarified the application, did not expand the scope of the application as originally noticed, and did not change the staff's original proposed no significant hazards consideration determination as published in the Federal Register.

The Commission's related evaluation of the amendment is contained in a Safety Evaluation dated August 31, 2015.

No significant hazards consideration comments received: No.

Exelon Generation Company, LLC, Docket No. 50-410, Nine Mile Point Nuclear Station, Unit 2 (NMP2), Oswego County, New York

Date of application for amendment: November 1, 2013, as supplemented by letters dated January 21, February 14, February 25, March 10, May 14, June 13, October 10, December 11, 2014, and February 18, 2015.

Brief description of amendment: The amendment includes changes to the NMP2 Technical Specifications (TSs) necessary to: (1) Implement the Maximum Extended Load Line Limit Analysis Plus (MELLLA+) expanded operating domain; (2) change the stability solution to Detect and Suppress Solution—Confirmation Density (DSS-CD); (3) use the TRACG04 analysis code; and (4) increase the Safety Limit Minimum Critical Power Ratio (SLMCPR) for two recirculation loops in operation.

Date of issuance: September 2, 2015.

Effective date: As of the date of issuance and shall implemented within 90 days of issuance.

Amendment No.: 151. A publicly-available version is in ADAMS under Accession No. ML15223B144; documents related to this amendment are listed in the Safety Evaluation enclosed with the amendment.

Renewed Facility Operating License No. NPF-69: Amendment revised the Renewed Facility Operating License and TS.

Date of initial notice in Federal Register: August 5, 2014 (79 FR 45491).

The supplemental letters dated January 21, February 14, February 25, March 10, May 14, June 13, December 11, 2014, and February 18, 2015, provided additional information that clarified the application, did not expand the scope of the application as originally noticed, and did not change the staff's original proposed no significant hazards consideration determination as published in the Federal Register.

The Commission's related evaluation of the amendment is contained in a Safety Evaluation dated September 2, 2015.

No significant hazards consideration comments received: No.

Exelon Generation Company, LLC and PSEG Nuclear LLC, Docket Nos. 50-277 and 50-278, Peach Bottom Atomic Power Station, Units 2 and 3, York and Lancaster Counties, Pennsylvania

Date of amendment request: November 7, 2014, as supplemented by letters dated April 13, 2015, and August 10, 2015.

Brief description of amendments: The amendments revised the Technical Specifications (TSs) associated with the primary containment leakage rate testing program. Specifically, the amendments extend the frequencies for performance of the Type A containment integrated leakage rate test and the Type C containment isolation valve leakage rate test, which are required by 10 CFR part 50, appendix J, “Primary Reactor Containment Leakage Testing for Water-Cooled Power Reactors.”

Date of issuance: September 8, 2015.

Effective date: As of the date of issuance and shall be implemented within 30 days of issuance.

Amendments Nos.: 302 and 306. A publicly-available version is in ADAMS under Accession No. ML15196A559; documents related to this amendment are listed in the Safety Evaluation enclosed with the amendments.

Renewed Facility Operating License Nos. DPR-44 and DPR-56: The amendments revised the Renewed Facility Operating Licenses and TSs.

Date of initial notice in Federal Register: January 20, 2015 (80 FR 2749). The supplemental letters dated April 13, 2015, and August 10, 2015, provided additional information that clarified the application, did not expand the scope of the application as originally noticed, and did not change the NRC staff's original proposed no significant hazards consideration determination as published in the Federal Register.

The Commission's related evaluation of the amendments is contained in a Safety Evaluation dated September 8, 2015.

No significant hazards consideration comments received: No.

Wolf Creek Nuclear Operating Corporation, Docket No. 50-482, Wolf Creek Generating Station, Coffey County, Kansas

Date of amendment request: November 21, 2013, as supplemented by letters dated December 8, 2014, and January 21, 2015.

Brief description of amendment: The amendment revised Paragraph 2.C.(5)(a) of the renewed facility operating license and the approved Fire Protection Program as described in the Updated Safety Analysis Report, based on the reactor coolant system thermal hydraulic response evaluation of a postulated control room fire, performed for changes to the alternative shutdown methodology.

Date of issuance: September 11, 2015.

Effective date: As of the date of issuance and shall be implemented within 45 days from the date of issuance.

Amendment No.: 214. A publicly-available version is in ADAMS under Accession No. ML15183A052; documents related to this amendment are listed in the Safety Evaluation enclosed with the amendment.

Renewed Facility Operating License No. NPF-42. The amendment revised the Operating License.

Date of initial notice in Federal Register: March 18, 2014 (79 FR 15151). The supplemental letters dated December 8, 2014, and January 21, 2015, provided additional information that clarified the application, did not expand the scope of the application as originally noticed, and did not change the staff's original proposed no significant hazards consideration determination as published in the Federal Register.

The Commission's related evaluation of the amendment is contained in a Safety Evaluation dated September 11, 2015.

No significant hazards consideration comments received: No.

V. Notice of Issuance of Amendments to Facility Operating Licenses and Combined Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR chapter I, which are set forth in the license amendment.

Because of exigent or emergency circumstances associated with the date the amendment was needed, there was not time for the Commission to publish, for public comment before issuance, its usual notice of consideration of issuance of amendment, proposed no significant hazards consideration determination, and opportunity for a hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License or Combined License, as applicable, and (3) the Commission's related letter, Safety Evaluation and/or Environmental Assessment, as indicated. All of these items can be accessed as described in the “Obtaining Information and Submitting Comments” section of this document.

A. Opportunity To Request a Hearing and Petition for Leave to Intervene

The Commission is also offering an opportunity for a hearing with respect to the issuance of the amendment. Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852, and electronically on the Internet at the NRC's Web site, http://www.nrc.gov/reading-rm/doc-collections/cfr/. If there are problems in accessing the document, contact the PDR's Reference staff at 1-800-397-4209, 301-415-4737, or by email to pdr.resource@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact. Contentions shall be limited to matters within the scope of the amendment under consideration. The contention must be one which, if proven, would entitle the petitioner to relief. A requestor/petitioner who fails to satisfy these requirements with respect to at least one contention will not be permitted to participate as a party.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

PSEG Nuclear LLC, Docket No. 50-272, Salem Nuclear Generating Station, Unit No. 1, Salem County, New Jersey

Date of amendment request: August 31, 2015, as supplemented by letter dated September 2, 2015.

Description of amendment: The amendment removes the pressurizer power operated relief valve position indication instrumentation from the accident monitoring instrumentation Technical Specifications (TSs) and the associated surveillance requirements.

Date of issuance: September 4, 2015.

Effective date: September 4, 2015.

Amendment No.: 310. A publicly-available version is in ADAMS under Accession No. ML15245A636; documents related to this amendment are listed in the Safety Evaluation (SE) enclosed with the amendment.

Facility Operating License Nos. DPR-70: Amendment revised the Facility Operating License and TSs.

Public comments requested as to proposed no significant hazards consideration (NSHC): No.

The Commission's related evaluation of the amendment, finding of emergency circumstances, State consultation, and final NSHC determination are contained in an SE dated September 4, 2015.

Attorney for licensee: Jeffrie J. Keenan, PSEG Nuclear LLC—N21, P.O. Box 236, Hancocks Bridge, NJ 08038.

NRC Branch Chief: Douglas A. Broaddus.

Dated at Rockville, Maryland, this 18th day of September 2015.
For the Nuclear Regulatory Commission.
Anne T. Boland,
Director, Division of Operating Reactor Licensing, Office of Nuclear Reactor Regulation.

[FR Doc. 2015-24472 Filed 9-28-15; 8:45 am]

BILLING CODE 7590-01-P